DEPARTMENT OF TRANSPORTATION

Federal Aviation Administration

14 CFR Part 39

[Docket No. 2000-NM-55-AD; Amendment 39-11825; AD 2000-14-15]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires modifying the fuel pipe couplings and installing bonding leads in specified locations within the fuel tank. This amendment is prompted by issuance of mandatory continuing airworthiness information by a foreign civil airworthiness authority. The actions specified by this AD are intended to prevent ignition sources and consequent fire/explosion in the fuel tank.

DATES: Effective August 28, 2000.

The incorporation by reference of certain publications listed in the regulations is approved by the Director of the Federal Register as of August 28, 2000.

ADDRESSES: The service information referenced in this AD may be obtained from Airbus Industrie, 1 Rond Point Maurice Bellonte, 31707 Blagnac Cedex, France.

This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A319, A320, and A321 series airplanes was published in the Federal Register on March 16, 2000 (65 FR 14218). That action proposed to require modifying the fuel pipe couplings and installing bonding leads in specified locations within the fuel tank.

Comments

Interested persons have been afforded an opportunity to participate in the making of this amendment. Due consideration has been given to the comments received.

Support for the Proposed AD

One commenter supports the content of the proposed AD.

Requests To Extend Compliance Time

Two commenters, both operators, request that the compliance time for the proposed actions be 5 years, rather than 3 years as proposed, for the following reasons:

1. While supporting the proposed AD in principle, one of the commenters states that the economic impact of a 3-year compliance time would significantly affect its maintenance and operating schedules because of additional labor hours, additional out-of-service time for its airplanes, and the setup costs necessary to accommodate the simultaneous modification of two airplanes.

2. The commenters note that the French airworthiness directive mandates a compliance time of 5 years, and that the service bulletin referenced in the proposed AD also recommends a compliance time of 5 years (or the next 4C check).

3. The commenters consider that a 3-year compliance time does not account for the elapsed time for accomplishing the modification outside of a heavy or major maintenance check. One commenter states that a 5-year compliance time would allow the proposed actions to be accomplished during a scheduled heavy maintenance visit. The other commenter reports that a 3-year compliance time would require modification of 34 of its airplanes outside of a heavy or major maintenance check, resulting in extended downtimes.

The FAA does not concur with the request to extend the compliance time. In the preamble of the proposed AD, the FAA explained its reasons for reducing the compliance time from 5 years (as recommended by the DGAC and the service bulletin) to 3 years. The commenters provide no data indicating that such an extended compliance time would ensure an acceptable level of safety. As stated in the proposed AD, the FAA considered many factors associated with continued operational safety and weighed those factors against any resulting disruption of affected airlines' operations. The FAA maintains that a 3-year compliance time represents an appropriate interval of time allowable for affected airplanes to continue to operate without compromising safety. No change to the final rule is warranted in this regard.

Request To Require Additional Actions

One commenter, an operator, suggests that the proposed AD be revised to add a requirement to inspect the condition and proper installation of existing fuel tank bonding straps, as specified by Airbus Service Bulletin A320-28-1075, Revision 01, dated February 1, 2000. The operator notes that a higher level of fuel tank safety would be achieved by encouraging operators to accomplish the inspection of the fuel tank bonding straps in accordance with Airbus Service Bulletin A320-28-1075. The operator adds that Airbus Service Bulletin A320-28-1077 (cited in the proposed AD as the appropriate source of service information for accomplishing the modification and installation) “strongly” recommends concurrent accomplishment of Airbus Service Bulletin A320-28-1075.

The FAA does not concur with the request to add a requirement to perform the referenced inspection. Although accomplishment of the actions specified by Airbus Service Bulletin A320-28-1075 could provide an improved level of safety, the FAA has not yet made a determination that those actions should be mandated via the AD rulemaking process. However, the FAA notes that the design review proposed in a Special Federal Aviation Regulation (SFAR) (Notice 99-18, 64 FR 58644, October 29, 1999, “Transport Airplane Fuel Tank System Design Review, Flammability Reduction, and Maintenance and Inspection Requirements”) would result in the FAA's approval of required maintenance and inspection instructions for fuel tank systems on the Airbus airplanes affected by this AD, as well as other existing large transport category airplanes. The inspections in Airbus Service Bulletin A320-28-1075 would be considered under the scope of the SFAR review, and could be mandated together with any other necessary inspections. No change to the final rule is necessary.

Request To Revise Cost Estimates

One commenter, an operator, requests a revision of the cost estimates in the proposed AD for the following reasons: (1) The estimated costs do not reflect the additional labor hours necessary to accommodate two airplanes simultaneously for the fuel tank rework; (2) the cost analysis in the proposed AD is based on work hours for airplanes in a heavy check status and does not include the work hours necessary for access and close; (3) the proposed cost estimate does not account for the concurrent accomplishment of the actions specified by Airbus Service Bulletin A320-28-1075; and (4) maintenance and operating schedules would be significantly affected due to the additional out-of-service time necessary for the airplanes.

The FAA does not concur with the request to revise the cost estimate. The cost impact information, below, describes only the per-airplane “direct” costs of the specific actions required by this AD. The number of work hours necessary to accomplish the required actions was provided to the FAA by the manufacturer based on the best data available to date. This number represents the time necessary to perform only the actions actually required by this AD. The FAA recognizes that, in accomplishing the requirements of any AD, operators may incur “incidental” costs in addition to the “direct” costs. The cost analysis in AD rulemaking actions, however, typically does not include incidental costs, such as the time required to gain access and close or time for various administrative actions. Because incidental costs may vary significantly from operator to operator, they are almost impossible to calculate. Further, as discussed earlier, the actions specified by Airbus Service Bulletin A320-28-1075 are not required by this AD, so those work hours are not included in the cost estimate. No change to the cost estimate of the final rule is necessary.

Conclusion

After careful review of the available data, including the comments noted above, the FAA has determined that air safety and the public interest require the adoption of the rule as proposed.

Cost Impact

The FAA estimates that 227 airplanes of U.S. registry will be affected by this AD. It will take between 20 and 100 work hours per airplane to accomplish the required actions, at an average labor rate of $60 per work hour. The cost of required parts is negligible. Based on these figures, the cost impact of the AD on U.S. operators is estimated to be between $272,400 and $1,362,000; or between $1,200 and $6,000 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-14-15 Airbus Industrie: Amendment 39-11825. Docket 2000-NM-55-AD.

Applicability: Model A319, A320, and A321 series airplanes; certificated in any category; excluding those on which Modifications 27150 and 27955 have been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent ignition sources and consequent fire/explosion in the fuel tank, accomplish the following:

Modification and Installation

(a) Within 36 months after the effective date of this AD, modify the fuel pipe couplings and install bonding leads in the specified locations of the fuel tank, in accordance with the Accomplishment Instructions of Airbus Service Bulletin A320-28-1077, dated July 9, 1999.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin

A320-28-1077, dated July 9, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-006-144(B), dated January 12, 2000.

(e) This amendment becomes effective on August 28, 2000.

Issued in Renton, Washington, on July 13, 2000.
Donald L. Riggin,
Acting Manager, Transport Airplane Directorate, Aircraft Certification Service.

[FR Doc. 00-18282 Filed 7-21-00; 8:45 am]

BILLING CODE 4910-13-U